DEPARTMENT OF HOMELAND SECURITY

Coast Guard

33 CFR Part 117

[Docket No. USCG-2012-0747]

Drawbridge Operation Regulation; Grassy Sound Channel, Middle Township, NJ

AGENCY: Coast Guard, DHS.

ACTION: Notice of temporary deviation from regulations.

SUMMARY: The Coast Guard has issued a temporary deviation from the operating schedule that governs the Grassy Sound Channel (Ocean Drive) Bridge across the Grassy Sound Channel, mile 1.0, at Middle Township, NJ. The deviation is necessary to accommodate the annual “The Wild Half” run. The deviation allows the bridge draw span to remain in the closed-to-navigation position for 3.5 hours during the event.

DATES: This deviation is effective from 7:30 a.m. until 11 a.m. on August 26, 2012.

ADDRESSES: Documents mentioned in this preamble as being available in the docket USCG-2012-0747 are available online by going to http://www.regulations.gov, inserting USCG-2012-0747 in the “Keywords” box, and then clicking “Search”. This material is also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email Mr. Jim Rousseau, Bridge Management Specialist, Fifth Coast Guard District, telephone 757-398-6557, email James.L.Rousseau2@uscg.mil. If you have questions on reviewing the docket, call Renee V. Wright, Program Manager, Docket Operations, 202-366-9826.

SUPPLEMENTARY INFORMATION: The Event Director for “The Wild Half” run, with approval from the Cape May County Department of Public Works, owner of the drawbridge, has requested a temporary deviation from the current operating schedule to accommodate “The Wild Half” run.

The Grassy Sound Channel (Ocean Drive) Bridge across Grassy Sound Channel, mile 1.0, a bascule-lift type drawbridge, in Middle Township, NJ, has a vertical clearance in the closed position of 15 feet, above mean high water.

The Grassy Sound Channel (Ocean Drive) Bridge operating regulations are set out in 33 CFR 117.721. Under normal operating conditions, the draw would open on signal from 6 a.m. to 8 p.m. from May 15 through September 30. From 9:15 a.m. to 2:30 p.m. on the fourth Sunday in March of every year, the draw need not open for vessels. If the fourth Sunday falls on a religious holiday, the draw need not open from 9:15 a.m. to 2:30 p.m. on the third Sunday of March of every year. Two hours advance notice is required for all other openings.

Under this temporary deviation, the drawbridge will be allowed to remain in the closed-to-navigation position from 7:30 a.m. to 11 a.m. on Sunday, August 26, 2012 to accommodate “The Wild Half” run.

Vessels able to pass under the closed span may transit under the drawbridge while it is in the closed position. Mariners are advised to proceed with caution. The Coast Guard will inform users of the waterway through our local and broadcast Notices to Mariners of the limited operating schedule for the drawbridge so that vessels can arrange their transits to minimize any impacts caused by the temporary deviation. There are alternate routes for vessels and the bridge will be able to open in the event of an emergency.

In accordance with 33 CFR 117.35(e), the drawbridge must return to its regular operating schedule immediately at the end of the designated time period.

This deviation from the operating regulations is authorized under 33 CFR 117.35.

Dated: August 3, 2012.
Waverly W. Gregory, Jr.,
Bridge Program Manager, Fifth Coast Guard District.

[FR Doc. 2012-20340 Filed 8-17-12; 8:45 am]

BILLING CODE 9110-04-P